DEPARTMENT OF ENERGY

Federal Energy Regulatory Commission

[Project No. 2850-015]

Hampshire Paper Company; Notice of Application Tendered for Filing With the Commission and Establishing Procedural Schedule for Licensing and Deadline for Submission of Final Amendments

September 24, 2010.

Take notice that the following hydroelectric application has been filed with the Commission and is available for public inspection.

a. Type of Application: New Major License.

b. Project No.: 2850-015.

c. Date Filed: June 17, 2010.

d. Applicant: Hampshire Paper Company.

e. Name of Project: Emeryville Hydroelectric Project.

f. Location: On the Oswegatchie River in the hamlet of Emeryville, in St. Lawrence County, New York. The project does not occupy federal lands.

g. Filed Pursuant to: Federal Power Act, 16 U.S.C. 791(a)-825(r).

h. Applicant Contact: Michael McDonald, Facility Manager, Hampshire Paper Company, 1827 County Road 22, Gouverneur, NY 13642; Telephone (315) 287-1990.

i. FERC Contact: John Baummer, (202) 502-6837 or john.baummer@FERC.gov.

j. This application is not ready for environmental analysis at this time.

k. The Project Description: The existing Emeryville Project consists of: (1) A 16.7-foot-high, 185-foot-long, timber and earth fill gravity dam with a 17-foot-long concrete spillway equipped with 2.4-foot-high flashboards and a 4-foot-wide minimum flow rectangular weir with a minimum elevation of 584.2 feet mean sea level (msl); (2) a 35-acre reservoir with a normal water surface elevation of 586.6 feet msl; (3) a 140-foot-long by 30-foot-wide reinforced concrete intake and headrace structure equipped with four headgates and a trashrack with 5-inch spacing; (4) a 60-foot-long by 14-foot-diameter steel penstock leading to; (5) a 67-foot-long by 32-foot concrete powerhouse containing a horizontal axial flow turbine with a maximum hydraulic capacity of 1,470 cubic feet per second and a net head of 32 feet, directly connected to a horizontal generator unit with a rated capacity of 3,481 kilowatts for an estimated average annual generation of 18,400 megawatt-hours; (6) an 80-foot-long, 23-kilovolt transmission line; and (7) appurtenant facilities.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following Hydro Licensing Schedule. Revisions to the schedule may be made as appropriate.

Milestone | Target date
Tendering Notice | September 27, 2010.
Notice of Acceptance/Notice of Ready for Environmental Analysis | November 12, 2010.
Filing of recommendations, preliminary terms and conditions, and fishway prescriptions | January 11, 2011.
Commission issues Non-Draft EA | May 11, 2011.
Comments on EA | June 10, 2011.
Modified terms and conditions | August 9, 2011.

o. Final amendments to the application must be filed with the Commission no later than 30 days from the issuance date of the notice of ready for environmental analysis.

Kimberly D. Bose,
Secretary.

[FR Doc. 2010-24978 Filed 10-4-10; 8:45 am]

BILLING CODE 6717-01-P